Proclamation 7342 of September 15, 2000

Ovarian Cancer Awareness Week, 2000

By the President of the United States of America

A Proclamation

Ovarian cancer is one of the deadliest cancers affecting American women today. This year alone, 14,000 women will die from ovarian cancer, and more than 23,000 will be diagnosed with the disease. While ovarian cancer is very treatable when detected early, currently 75 percent of new cases are not diagnosed until the disease is in its late stages of development, when treatment is less effective. With early detection, women have a survival rate of over 90 percent; diagnosis in its later stages, however, dramatically reduces the chances of survival to just 25 percent.

Unfortunately, there is still no reliable and quick screening test for ovarian cancer like the Pap smear for cervical cancer or the mammogram for breast cancer. In addition, its symptoms—such as abdominal discomfort or bloating, cramps, unaccountable weight gain or loss, abnormal bleeding—can often be mistaken for signs of less serious conditions. Consequently, raising awareness of risk factors for ovarian cancer is a crucial weapon in our effort to save lives. While every woman has the potential to develop ovarian cancer, the risk is higher for those who have never given birth; who are over the age of 50; or who have a family history of ovarian, breast, or colon cancer.

Research into the causes and treatment of ovarian cancer still offers us the best hope for progress in defeating this disease that has taken such a deadly toll on American families. The National Cancer Institute (NCI) is currently sponsoring a large-scale cancer screening trial to explore, among other issues, the usefulness of testing women's blood for abnormally high levels of CA-125, a substance known as a tumor marker, which is often discovered in higher than normal amounts in the blood of women with ovarian cancer. Researchers are also evaluating the effectiveness of ultrasound testing as a tool for early detection. To learn more about the genetic causes of ovarian cancer, the NCI's Cancer Genetics Network has established registries to track cancers within families to identify possible inherited risks.

As with every disease, knowledge is crucial to overcoming ovarian cancer. Ovarian Cancer Awareness Week offers us an invaluable opportunity to educate Americans about the symptoms and risk factors of the disease, to alert health care providers about the need for vigilance in recognizing those symptoms and risks early, and to promote increased funding for research into more effective methods of diagnosis and treatment. The more we know about ovarian cancer, the more women and their families can live out their lives free from the shadow of this devastating disease.

NOW, THEREFORE, I, WILLIAM J. CLINTON, President of the United States of America, by virtue of the authority vested in me by the Constitution and laws of the United States, do hereby proclaim September 17 through September 23, 2000, as Ovarian Cancer Awareness Week. I encourage the American people to observe this week with appropriate ceremonies and activities that raise awareness of the need for early diagnosis and treatment of this deadly disease.

IN WITNESS WHEREOF, I have hereunto set my hand this fifteenth day of September, in the year of our Lord two thousand, and of the Independence of the United States of America the two hundred and twenty-fifth.

wj

[FR Doc. 00-24255

Filed 9-18-00; 11:18 am]

Billing code 3195-01-P